RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Application and Claim for Unemployment Benefits and Employment Service.

(2) Form(s) submitted: UI-1, UI-3.

(3) OMB Number: 3220-0022.

(4) Expiration date of current OMB clearance: 8/31/2000.

(5) Type of request: Revision of a currently approved collection.

(6) Respondents: Individuals or households.

(7) Estimated annual number of respondents: 11,200.

(8) Total annual responses: 78,700.

(9) Total annual reporting hours: 8,617.

(10) Collection description: Under Section 2 of the Railroad Unemployment Insurance Act, unemployment benefits are provided for qualified railroad employees. The collection obtains the information needed for determining the eligibility to and amount of such benefits from railroad employees.

Additional Information or Comments: Copies of the forms and supporting documents can be obtained from Chuck Mierzwa, the agency clearance officer (312-751-3363). Comments regarding the information collection should be addressed to Ronald J. Hodapp, Railroad Retirement Board, 844 North Rush Street, Chicago, Illinois, 60611-2092 and the OMB reviewer, Joe Lackey (202-395-7316), Office of Management and Budget, Room 10230, New Executive Office Building, Washington, DC 20503.

Chuck Mierzwa,
Clearance Officer.

[FR Doc. 00-10618 Filed 4-27-00; 8:45 am]

BILLING CODE 7905-01-M